UNITED STATES INSTITUTE OF PEACE

Announcement of the Fall Unsolicited Grant Competition Grant Program

AGENCY: United States Institute of Peace.

ACTION: Notice.

SUMMARY: The Agency announces its Upcoming Fall Unsolicited Grant Program, which offers support for research, education and training, and the dissemination of information on international peace and conflict resolution.

Deadline: October 1, 2001.

Notification: March 1, 2001 (Note: new notification date).

DATES: Application Material Available on Request.

Receipt of Application: October 1, 2001.

Notification Date: Late March 2002.

ADDRESSES: For Application Package: United States Institute of Peace, Grant Program • Unsolicited Grants, 1200 17th Street, NW • Suite 200, Washington, DC 20036-3011, (202) 429-3842 (phone), (202) 429-6063 (fax), (202) 457-1719 (TTY), Email: grant_program@usip.org

Applications also available on-line at our web site: www.usip.org

FOR FURTHER INFORMATION CONTACT: The Grant Program, Phone (202) 429-3842, E-mail: grant_program@usip.org

Dated: July 18, 2001.
Bernice J. Carney,
Director, Office of Administration.

[FR Doc. 01-18455 Filed 7-25-01; 8:45 am]

BILLING CODE 6820-AR-M